DEPARTMENT OF THE INTERIOR

Bureau of Land Management

[ES-960-1420-BJ; ES-51229, Group 164, Wisconsin]

Notice of Filing of Plat of Survey; Wisconsin

The plat of the dependent resurvey of the Eagle Bluff Light Station in the fractional NE ¼ of section 17, Township 31 North, Range 27 East, 4th Principal Meridian, Wisconsin, will be officially filed in Eastern States, Springfield, Virginia at 7:30 a.m., on December 17, 2001.

The survey was requested by the Bureau of Land Management, Milwaukee Field Office.

All inquiries or protests concerning the technical aspects of the survey must be sent to the Chief Cadastral Surveyor, Eastern States, Bureau of Land Management, 7450 Boston Boulevard, Springfield, Virginia 22153, prior to 7:30 a.m., December 17, 2001.

Copies of the plat will be made available upon request and prepayment of the appropriate fee.

Dated: October 19, 2001.
Stephen D. Douglas,
Chief Cadastral Surveyor.

[FR Doc. 01-27915 Filed 11-6-01; 8:45 am]

BILLING CODE 4310-GJ-P